DEPARTMENT OF THE TREASURY

Submission for OMB Review; Comment Request

April 28, 2003.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before June 4, 2003, to be assured of consideration.

Financial Management Service (FMS)

OMB Number: 1510-0008.

Form Number: None.

Type of Review: Extension.

Title: Pools and Associations—Annual Letter.

Description: The information is collected to determine the acceptable percentage for each pool and association that Treasury Certified companies are allowed credit for on their Treasury Schedule F for authorized ceded reinsurance in arriving at each company's underwriting limitation.

Respondents: Business or other for-profit.

Estimated Number of Respondents: 90.

Estimated Burden Hours Per Respondent: 1 hour, 30 minutes.

Frequency of Response: Annually.

Estimated Total Reporting Burden: 135 hours.

OMB Number: 1510-0013.

Form Number: FMS Form 2208.

Type of Review: Extension.

Title: States Where Licensed for Surety.

Description: Information is collected from insurance companies in order to provide Federal bond approving officers with this information. The listing of states, by company, appears in Treasury's Circular 570, “Surety Companies Acceptable on Federal Bonds”.

Respondents: Business or other for-profit.

Estimated Number of Respondents: 259.

Estimated Burden Hours Per Respondent: 1 hour.

Frequency of Response: Annually.

Estimated Total Reporting Burden: 259.

Clearance Officer: Juanita Holder, Financial Management Service, 3700 East West Highway, Room 135, PGP II, Hyattsville, MD 20782.

OMB Reviewer: Joseph F. Lackey, Jr., (202) 395-7316, Office of Management and Budget, Room 10235, New Executive Office Building, Washington, DC 20503.

Mary A. Able,
Departmental Reports, Management Officer.

[FR Doc. 03-10987 Filed 5-2-03; 8:45 am]

BILLING CODE 4810-35-P